DEPARTMENT OF AGRICULTURE

Agricultural Marketing Service

[Docket No. LS-04-08]

Notice of Request for Extension of a Currently Approved Information Collection

AGENCY: Agricultural Marketing Service, USDA.

ACTION: Notice and request for comments.

SUMMARY: In accordance with the Paperwork Reduction Act of 1995 (44 U.S.C. chapter 35), this notice announces the Agricultural Marketing Service's (AMS) intention to request an extension of a currently approved information collection used to compile and generate the livestock and livestock product reports in accordance with the Livestock Mandatory Reporting Act of 1999 for the Livestock and Grain Market News Branch of the Livestock and Seed Program.

DATES: Comments on this notice must be received by September 17, 2004, to be assured of consideration.

FOR FURTHER INFORMATION CONTACT: Comments may be mailed to Jimmy A. Beard; Assistant to the Chief, Livestock and Grain Market News Branch, Livestock and Seed Program, AMS, USDA, STOP 0252, Room 2619-S, 1400 Independence Avenue, SW., Washington, DC 20250-0252; phone (202) 720-8054; fax (202) 690-3732; or e-mailed to marketnewscomments@usda.gov. All comments received will be available for public inspection at this address during the hours of 8 a.m. to 4 p.m. Monday through Friday, and on the Internet at http://www.ams.usda.gov/lsmnpubs.

All responses to this notice will be summarized and included in the request for Office of Management and Budget (OMB) approval. All comments will become a matter of public record.

SUPPLEMENTARY INFORMATION: Title: Livestock Mandatory Reporting Act of 1999.

OMB Number: 0581-0186.

Expiration Date of Approval: 10-31-2004.

Type of Request: Extension of a currently approved information collection.

Abstract: The Livestock Mandatory Reporting Act of 1999 (7 U.S.C. 1635h-1636h) (Act) mandates the reporting of information on the prices and quantities of cattle, swine, lambs and products of such livestock. Regulations implementing the Act appear at 7 CFR part 59. The collection of information is necessary for the proper performance of the functions of AMS concerning the mandatory reporting of livestock information. The Livestock Mandatory Reporting program requires the submission of market information by packers who have annually slaughtered an average of 125,000 cattle or 100,000 swine over the most recent 5 calendar year period, or have annually slaughtered or processed an average of 75,000 lambs over the most recent 5 calendar year period. Importers who have annually imported an average of 5,000 metric tons of lamb meat products over the most recent 5 calendar year period are also subject to mandatory reporting requirements. The Act is intended to provide information on pricing, contracting for purchase and supply and demand conditions for livestock, livestock production and livestock products that can be readily understood by producers, packers and other market participants. In addition, each packer and importer required to report must maintain and make available upon request for 2 years, such records as are necessary to verify the accuracy of the information required to be reported. These records include original contracts, agreements, receipts, and other records associated with any transaction relating to the purchase, sale, pricing, transportation, delivery, weighing, slaughter, or carcass characteristics of all livestock. The electronic data files which the packers are required to utilize when submitting information to AMS will also have to be maintained as these files provide the best record of compliance. The recordkeeping burden includes the amount of time needed to store and maintain records. AMS estimates the annual cost per respondent for the storage of the electronic data files which were submitted to AMS in compliance with the reporting provisions of the Act to be $1,830.00. This estimate includes the cost of electronic data storage media, backup electronic data storage media, and backup software required to maintain an estimated annual electronic recordkeeping and backup burden of 42 megabytes, on average, per respondent. In addition, this estimate includes the cost per employee to maintain such records which is estimated to average 70 hours per year at $20.00 per hour for a total salary component cost of $1,400.00 per year.

The information collection requirements include the submission of the required information on a daily and weekly basis in the standard format provided in the following forms: (1) Live Cattle Daily Report (Current Established Prices), (2) Live Cattle Daily Report (Committed and Delivered Cattle), (3) Live Cattle Weekly Report (Forward Contract and Packer-Owned), (4) Live Cattle Weekly Report (Formula Purchases), (5) Cattle Premiums and Discounts Weekly Report, (6) Boxed Beef Daily Report, (7) Swine Prior Day Report, (8) Swine Daily Report, (9) Swine Noncarcass Merit Premium Weekly Report, (10) Live Lamb Daily Report (Current Established Prices), (11) Live Lamb Daily Report (Committed and Delivered Lambs), (12) Live Lamb Weekly Report (Forward Contract and Packer-Owned), (13) Live Lamb Weekly Report (Formula Purchases), (14) Lamb Premiums and Discounts Weekly Report, (15) Boxed Lamb Report, and (16) Lamb Carcass Report. Cattle packers will utilize six of these forms when reporting information to AMS including two for daily cattle reporting, three for weekly cattle reporting, and one for daily boxed beef cuts reporting. Swine packers will utilize three forms, two for daily reporting of swine purchases and one for weekly reporting of non-carcass merit premium information. Lamb packers will utilize seven of these forms when reporting information to AMS including two for daily lamb reporting, three for weekly lamb reporting, one for daily and weekly boxed lamb cuts reporting and one for daily and weekly lamb carcass reporting. Lamb importers will utilize one of these forms when reporting information to AMS for reporting weekly imported boxed lamb cut purchases and sales.

These information collection requirements have been designed to minimize disruption to the normal business practices of the affected entities. Each form requires the minimal amount of information necessary to properly describe each reportable transaction, as required by the Act. The number of forms is a result of an attempt to reduce the complexity of each form.

Estimate of Burden: Public reporting burden for this collection of information is estimated at .18 hours per response.

Respondents: Packer processing plants required to report information to the Secretary.

Estimated Number of Respondents: 119.

Estimated Number of Responses per Respondent: 1,142.

Estimated Total Annual Burden on Respondents: 24,429 hours.

Comments are invited on: (1) Whether the proposed collection of information is necessary for the proper performance of the functions of the Agency, including whether the information will have practical utility; (2) the accuracy of the Agency's estimate of the burden of the proposed collection of information, including the validity of the methodology and assumptions used; (3) ways to enhance quality, utility, and clarity of the information to be collected; and (4) ways to minimize the burden of the collection of information on those who are to respond, including the use of appropriate automated, electronic, mechanical, or other technological collection techniques or other forms of information technology.

Dated: July 13, 2004.
A.J. Yates,
Administrator, Agricultural Marketing Service.

[FR Doc. 04-16275 Filed 7-16-04; 8:45 am]

BILLING CODE 3410-02-P